SMALL BUSINESS ADMINISTRATION

National Women's Business Council (NWBC); Data Collection Available for Public Comments

AGENCY: National Women's Business Council, Small Business Administration.

ACTION: 60-day notice and request for comments.

SUMMARY: The National Women's Business Council (NWBC) intends to request approval from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before May 8, 2017.

ADDRESSES: Send all comments to Dolores Rowen, Research Manager, National Women's Business Council, Small Business Administration, 409 3rd Street, Suite 5500, Washington, DC 20416.

FOR FURTHER INFORMATION CONTACT: Dolores Rowen, Research Manager, National Women's Business Council, Dolores.Rowen@sba.gov 202-205-9974, or Curtis B. Rich, Management Analyst, Curtis.Rich@sba.gov 202-205-7030.

SUPPLEMENTARY INFORMATION: The National Women's Business Council (NWBC) is a non-partisan federal advisory council created to serve as an independent source of advice and counsel to the President, Congress, and the U.S. Small Business Administration on economic issues of importance to women business owners.

NWBC is undertaking a research study that will build upon existing knowledge to uncover insights and new information germane to supporting and encouraging entrepreneurship among millennial women. Data will be collected via focus groups with millennial women and men.

Given the decline in entrepreneurship among millennials compared to prior generations at the same age, research is necessary to understand what young women require such that the government can foster increased participation in entrepreneurship among millennial women and the extent to which there are gendered differences. This research will develop insights about multiple topics including: Differences between prospective and current millennial women entrepreneurs; differences between millennial men and women entrepreneurs; motivating factors; and student debt as a motivator and deterrent. This work will include multiple perspectives to develop a well-rounded picture including prospective millennial women entrepreneurs, current millennial women entrepreneurs, and current millennial men entrepreneurs.

NWBC will use the resulting report from this data collection to inform its annual report to the President, Congress, and the SBA on policy and program recommendations to support the growth of women-owned businesses.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Research on Millennial Women Entrepreneurs.

Description of Respondents: Respondents in the study will be prospective millennial women entrepreneurs, current millennial women entrepreneurs, and current millennial men entrepreneurs. Focus groups with all three respondent types will be conducted in Los Angeles, California, Denver, Colorado, and Boston, Massachusetts. The focus groups will develop insights regarding motivating factors and barriers related to student debt and entrepreneurship.

Form Number: N/A.

Total Estimated Annual Responses: There will be a maximum of 108 focus group participants (no more than 12 persons for each of 9 focus groups). Potential participants will be identified and recruited via nomination, group or community membership, and targeted emails and online recruitment tools.

Total Estimated Annual Hour Burden: Focus group participants will spend approximately 120 minutes in total completing a pre-discussion screener, engaging in focus group discussion, and traveling to and from the focus group location.

The total annual time burden is estimated at 216 hours for completion of all aspects of data collection. To estimate the annualized cost of this time burden, we assumed 2,000 annual working hours and an annual salary of $66,000, which is the median annual salary for small business owners in the United States as reported by PayScale Human Resources, resulting in a cost per participant of $66. In order to obtain 108 focus group participants, it is estimated that 300 contacts will be needed. Of those 192 individuals who are contacted and screened, but who are not eligible, willing, or able to participate in the focus groups, the time burden is approximately five minutes. This adds an additional annual time burden of $528.00. In total, the time burden cost for this study is estimated at $7,656.00.

Information collection (focus groups) | Number of respondents | Number of responses per respondent | Average burden per response in hours | Total annual burden of hours
Focus group 1 | 36 | 1 | 2 | 72
Focus group 2 | 36 | 1 | 2 | 72
Focus group 3 | 36 | 1 | 2 | 72
Total Annual Burden Hours |  |  |  | 216

Curtis B. Rich,
Management Analyst.

[FR Doc. 2017-04654 Filed 3-8-17; 8:45 am]

BILLING CODE 8025-01-P